DEPARTMENT OF THE INTERIOR

Bureau of Land Management

[NMNM 91985, NMNM 91986]

Public Land Order No. 7625; Withdrawal of National Forest System Lands for the Gallinas Peak and West Turkey Cone Electronic Sites; New Mexico

AGENCY: Bureau of Land Management, Interior.

ACTION: Public land order.

SUMMARY: This order withdraws 140 acres of National Forest System lands from location and entry under the United States mining laws for 20 years to protect the Gallinas Peak and West Turkey Cone Electronic Sites.

EFFECTIVE DATE: February 17, 2005.

FOR FURTHER INFORMATION CONTACT: Irene Gonzales, BLM Roswell Field Office, 2909 West Second Street, Roswell, New Mexico 88201, 505-627-0287.

Order

By virtue of the authority vested in the Secretary of the Interior by section 204 of the Federal Land Policy and Management Act of 1976, 43 U.S.C. 1714 (2000), it is ordered as follows:

1. Subject to valid existing rights, the following described National Forest System lands are hereby withdrawn from location and entry under the United States mining laws, 30 U.S.C. ch. 2 (2000), to protect the Gallinas Peak and West Turkey Cone Electronic Sites:

Cibola National Forest

New Mexico Principal Meridian

Gallinas Peak Electronic Site

T. 1 S., R.11 E.,

Sec. 4, S½SW¼NW¼SE¼, N½SW¼SE¼, S½NE¼SE¼SE¼, and W½SE¼SE¼; Sec. 9, NW¼NE¼NE¼.

West Turkey Cone Electronic Site

T. 1 S., R. 11 E.,

Sec. 4, S½S½NE¼SW¼, N½SW¼SW¼, N½S½SW¼SW¼, and W½NW¼SE¼SW¼;

Sec. 5, S½S½NE¼SE¼, E½SE¼SE¼, and N½NW¼SE¼SE¼.

The areas described aggregate 140 acres in Lincoln County.

2. This withdrawal will expire 20 years from the effective date of this order unless, as a result of a review conducted before the expiration date pursuant to section 204(f) of the Federal Land Policy and Management Act of 1976, 43 U.S.C. 1714(f) (2000), the Secretary determines that the withdrawal shall be extended.

Dated: January 24, 2005.
Rebecca W. Watson,
Assistant Secretary—Land and Minerals Management.

[FR Doc. 05-3053 Filed 2-16-05; 8:45 am]

BILLING CODE 3410-11-P